DEPARTMENT OF TRANSPORTATION

Coast Guard

33 CFR Part 100

[CGD05-01-054]

Special Local Regulations for Marine Events; Wrightsville Channel, Wrightsville Beach, North Carolina

AGENCY: Coast Guard, DOT.

ACTION: Notice of implementation.

SUMMARY: The Coast Guard is implementing the special local regulations at 33 CFR 100.513 during the Wilmington YMCA Triathlon to be held September 16, 2001, on the waters of Wrightsville Channel, Wrightsville Beach, North Carolina. This action is necessary to provide for the safety of life on navigable waters during the event. The effect will be to restrict general navigation in the regulated area for the safety of participants and vessels transiting the event area.

EFFECTIVE DATES: 33 CFR 100.513 is effective from 6:15 a.m. to 7:30 a.m. eastern time on September 16, 2001.

FOR FURTHER INFORMATION CONTACT: S. L. Phillips, Project Manager, Operations Division, Auxiliary and Boating Safety Section, at (757) 398-6204.

SUPPLEMENTARY INFORMATION: The Wilmington YMCA will sponsor the Wilmington YMCA Triathlon on September 16, 2001 on the waters of Wrightsville Channel, Wrightsville Beach, North Carolina. The event will involve 500 swimmers racing along a course within the regulated area. In order to ensure the safety of the swimmers and transiting vessels, 33 CFR 100.513 will be in effect for the duration of the event. Under provisions of 33 CFR 100.513, a vessel may not enter the regulated area unless it receives permission from the Coast Guard Patrol Commander.

In addition to this notice, the maritime community will be provided extensive advance notification via the Local Notice to Mariners, marine information broadcasts, and area newspapers, so mariners can adjust their plans accordingly.

Dated: August 24, 2001.
Thad W. Allen,
Vice Admiral, U.S. Coast Guard, Commander, Fifth Coast Guard District.

[FR Doc. 01-22257 Filed 9-4-01; 8:45 am]

BILLING CODE 4910-15-U